DEPARTMENT OF VETERANS AFFAIRS

[OMB Control No. 2900-0500]

Status of Dependents Questionnaire

AGENCY: Veterans Benefits Administration, Department of Veterans Affairs.

ACTION: Notice; correction.

SUMMARY: The Department of Veterans Affairs (VA) published a collection of information notice in the Federal Register on Monday, January 23, 2017 that contained an error. The 60-day Public Comment notice identified the wrong title for the Agency Information Collection Activity. This document serves as Notice for change of the title: “Status of Dependents Questionnaire” with the revised title: “Mandatory Status of Dependents.”

FOR FURTHER INFORMATION CONTACT: Cynthia Harvey-Pryor, Enterprise Records Service (005R1B), Department of Veterans Affairs, 810 Vermont Avenue NW., Washington, DC 20420, at 202-461-5870.

Correction

In FR Doc. 2017-01398, published on Monday, January 23, 2017 at 82 FR 13, the following was in error. Pages 7917 and 7918, displayed “Agency Information Collection Activity: Status of Dependents Questionnaire (VA Form 21-0538),” and also under SUPPLEMENTARY INFORMATION: Title: Status of Dependents Questionnaire (VA Form 21-0538).” Publication of the 30-day Federal Register Notice comment period will display the revised titles: Agency Information Collection Activity: Mandatory Status of Dependents SUPPLEMENTARY INFORMATION: Title: Mandatory Status of Dependents.”

Dated: April 26, 2017.
By direction of the Secretary.
Cynthia Harvey-Pryor,
Department Clearance Officer, Enterprise Records Service, Office of Quality and Compliance, Department of Veterans Affairs.

[FR Doc. 2017-08929 Filed 5-2-17; 8:45 am]

BILLING CODE 8320-01-P